INTERNATIONAL TRADE COMMISSION

[Investigation Nos. 731-TA-1014, 1016, and 1017 (Review)]

Polyvinyl Alcohol From China, Japan, and Korea; Determination

On the basis of the record ¹ developed in the subject five-year reviews, the United States International Trade Commission (Commission) determines, pursuant to section 751(c) of the Tariff Act of 1930 (19 U.S.C. 1675(c)), that revocation of the antidumping duty orders on polyvinyl alcohol from China, Japan, and Korea would be likely to lead to continuation or recurrence of material injury to an industry in the United States within a reasonably foreseeable time.²

¹ The record is defined in sec. 207.2(f) of the Commission's Rules of Practice and Procedure (19 CFR 207.2(f)).

² Vice Chairman Daniel R. Pearson dissenting with respect to Korea.

Background

The Commission instituted these reviews on June 2, 2008 (73 FR 31507) and determined on September 5, 2008 that it would conduct full reviews (73 FR 53443, September 16, 2008). Notice of the scheduling of the Commission's reviews and of a public hearing to be held in connection therewith was given by posting copies of the notice in the Office of the Secretary, U.S. International Trade Commission, Washington, DC, and by publishing the notice in the Federal Register on September 22, 2008 (73 FR 54619). The hearing was held in Washington, DC, on January 27, 2009, and all persons who requested the opportunity were permitted to appear in person or by counsel.

The Commission transmitted its determination in these reviews to the Secretary of Commerce on March 27, 2009. The views of the Commission are contained in USITC Publication 4067 (March 2009), entitled Polyvinyl Alcohol from China, Japan, and Korea: Investigation Nos. 731-TA-1014, 1016, and 1017 (Review).

By order of the Commission.
Issued: March 27, 2009.
Marilyn R. Abbott,
Secretary to the Commission.
William R. Bishop,
Acting Secretary.

[FR Doc. E9-7401 Filed 4-1-09; 8:45 am]

BILLING CODE